DEPARTMENT OF ENERGY

Federal Energy Regulatory Commission

[Docket No. RP20-521-000]

Betelgeuse Energy, LLC v. Paso Natural Gas Company, L.L.C.; Notice of Complaint

Take notice that on February 13, 2020, pursuant to Rule 206 of the Rules of Practice and Procedures of the Federal Energy Regulatory Commission (Commission), 18 CFR 385.206, Betelgeuse Energy, LLC (Betelgeuse or Complainant) filed a complaint against El Paso Natural Gas Company, L.L.C. (El Paso or Respondent), alleging that El Paso unlawfully rejected bids submitted by Betelgeuse in two open seasons held by El Paso pursuant to the right of first refusal provisions in its FERC Gas Tariff, Third Revised Volume No. 1A. In so doing, Betelgeuse alleges that El Paso violated those provisions of its tariff, as well as section 4(c) of the Natural Gas Act, 15 U.S.C. 717c(c), and section 282.221(d)(2) of the Commission's regulations, 18 CFR 282.221(d)(2) (2019), as more fully explained in the complaint.

The Complainant certifies that copies of the complaint were served on the contacts for the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. All interventions, or protests must be filed on or before the comment date.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for electronic review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on March 4, 2020.

Dated: February 18, 2020.
Nathaniel J. Davis, Sr.,
Deputy Secretary.

[FR Doc. 2020-03571 Filed 2-21-20; 8:45 am]

BILLING CODE 6717-01-P